DEPARTMENT OF THE TREASURY

Office of Foreign Assets Control

Sanctions Actions Pursuant to Executive Orders 13382 and 13687

AGENCY: Office of Foreign Assets Control, Treasury.

ACTION: Notice.

SUMMARY: The Treasury Department's Office of Foreign Assets Control (OFAC) is publishing the names of three individuals whose property and interests in property are blocked pursuant to Executive Order (E.O.) 13382, “Blocking Property of Weapons of Mass Destruction Proliferators and Their Supporters;” and seven individuals and two entities whose property and interests in property are blocked pursuant to E.O. 13687, “Imposing Additional Sanctions With Respect To North Korea.”

DATES: OFAC's actions described in this notice were effective on March 2, 2016, as further specified below.

FOR FURTHER INFORMATION CONTACT: Associate Director for Global Targeting, tel.: 202-/622-2420, Associate Director for Sanctions Policy and Implementation, tel.: 202/622-2480, Office of Foreign Assets Control, or Chief Counsel (Foreign Assets Control), tel.: 202/622-2410, Office of the General Counsel, Department of the Treasury (not toll free numbers).

SUPPLEMENTARY INFORMATION:

Electronic and Facsimile Availability

The Specially Designated Nationals and Blocked Persons List and additional information concerning OFAC sanctions programs are available on OFAC's Web site (www.treasury.gov/ofac). Certain general information pertaining to OFAC's sanctions programs is also available via facsimile through a 24-hour fax-on-demand service, tel.: 202/622-0077.

Notice of OFAC Actions

On March 2, 2016, OFAC blocked the property and interests in property of the following three individuals pursuant to E.O. 13382, “Blocking Property of Weapons of Mass Destruction Proliferators and Their Supporters”:

Individuals

1. HYON, Gwang Il (a.k.a. HYON, Kwang Il), Korea, North; DOB 27 May 1961; nationality Korea, North; Department Director at the National Aerospace Development Administration (individual) [NPWMD] (Linked To: NATIONAL AEROSPACE DEVELOPMENT ADMINISTRATION).

2. KIM, Song Chol (a.k.a. KIM, Hak Song); DOB 26 Mar 1968; alt. DOB 15 Oct 1970; nationality Korea, North; Passport 654120219 (Korea, North) expires 24 Feb 2019; alt. Passport 381420565 (Korea, North) expires 23 Nov 2016 (individual) [NPWMD] (Linked To: KOREA MINING DEVELOPMENT TRADING CORPORATION).

3. SON, Jong Hyok (a.k.a. SON, Min), Egypt; DOB 20 May 1980; nationality Korea, North (individual) [NPWMD] (Linked To: KOREA MINING DEVELOPMENT TRADING CORPORATION).

In addition, on March 2, 2016, OFAC blocked the property and interests in property of the following seven individuals and two entities pursuant to E.O. 13687, “Imposing Additional Sanctions With Respect To North Korea”:

Individuals

1. RI, Man Gon, Korea, North; DOB 1945 (individual) [DPRK2].

2. YU, Chol U, Korea, North; DOB 08 Aug 1959; Director, National Aerospace Development Administration (individual) [DPRK2] (Linked To: NATIONAL AEROSPACE DEVELOPMENT ADMINISTRATION).

3. HWANG, Pyong So (a.k.a. HWANG, Pyo'ng-so'), Korea, North; DOB 1940; Vice Chairman of the National Defense Commission (individual) [DPRK2] (Linked To: NATIONAL DEFENSE COMMISSION).

4. O, Kuk Ryol (a.k.a. O, Ku'k-ryo'l), Korea, North; DOB 07 Jan 1930; POB Onso'ng County, North Hambuk Province, Democratic People's Republic of Korea; Vice Chairman of the National Defense Commission (individual) [NPWMD] [DPRK2] (Linked To: NATIONAL DEFENSE COMMISSION).

5. PAK, Yong Sik (a.k.a. PAK, Yo'ng-sik), Korea, North; DOB 1950; Member of the Workers' Party of Korea Central Military Commission (individual) [DPRK2] (Linked To: WORKERS' PARTY OF KOREA CENTRAL MILITARY COMMISSION).

6. RI, Yong Mu (a.k.a. RI, Yong-Mu), Korea, North; DOB 25 Jan 1925; POB South Pyo'ngan Province, Pyo'ngso'ng; Vice Chairman of the National Defense Commission (individual) [DPRK2] (Linked To: NATIONAL DEFENSE COMMISSION).

7. PAK, Chun Il, Egypt; DOB 28 Jul 1954; nationality Korea, North; Passport 563410091 (Korea, North); North Korean Ambassador to Egypt (individual) [DPRK2].

Entities

1. NATIONAL DEFENSE COMMISSION, Pyongyang, Korea, North [DPRK2].

2. WORKERS' PARTY OF KOREA CENTRAL MILITARY COMMISSION, Pyongyang, Korea, North [DPRK2].

Dated: March 2, 2016.
John E. Smith,
Acting Director, Office of Foreign Assets Control.

[FR Doc. 2016-06494 Filed 3-22-16; 8:45 am]

BILLING CODE 4810-AL-P